LIBRARY OF CONGRESS

Copyright Office

37 CFR Part 210

[Docket No. 2022-5]

Termination Rights, Royalty Distributions, Ownership Transfers, Disputes, and the Music Modernization Act

Correction

In rule document 2024-14609 beginning on page 56586 in the issue of Tuesday, July 9, 2024, make the following correction:

§ 210.29 [Corrected]

On page 56614, in § 210.29, in the first column, in the second line, “August 8, 2024” should read “February 9, 2026”.

[FR Doc. C1-2024-14609 Filed 7-11-24; 8:45 am]

BILLING CODE 0099-10-D